DEPARTMENT OF LABOR

Employment and Training Administration

[NAFTA—04289]

Staples Business Advantage, Staples, Inc., Canton, MI; Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 USC 2273), an investigation was initiated on November 2, 2000, in response to a petition filed by company officials, on behalf of workers at Staples Business Advantage, Staples, Inc., Canton, Michigan.

The petitioners have requested that the petition for NAFTA-TAA be withdrawn. Consequently, further investigation in this case would serve no purpose, and the investigation has been terminated.

Signed at Washington, DC this 18th day of December 2000.
Linda G. Poole,
Certifying Officer, Division of Trade Adjustment Assistance.

[FR Doc. 00-33064 Filed 12-27-00; 8:45 am]

BILLING CODE 4510-30-M